FEDERAL COMMUNICATIONS COMMISSION

[WC Docket No. 23-1; DA 24-50; FR ID 198062]

Next Meetings of the North American Numbering Council

AGENCY: Federal Communications Commission.

ACTION: Notice.

SUMMARY: In this document, the Commission released a public notice announcing two meetings of the North American Numbering Council (NANC).

DATES: March 1, 2024 and June 25, 2024. The meeting on March 1, 2024, will come to order at 10:00 a.m. ET and the meeting on June 25, 2024, will come to order at 2:00 p.m. ET.

ADDRESSES: The meetings will be conducted in person in the Commission Meeting Room of the Federal Communications Commission, 45 L Street NE, Washington, DC and via the internet at http://www.fcc.gov/live.

FOR FURTHER INFORMATION CONTACT: You may also contact Christi Shewman, Designated Federal Officer, at christi.shewman@fcc.gov or 202-418-0646. More information about the NANC is available at https://www.fcc.gov/about-fcc/advisory-committees/general/north-american-numbering-council.

SUPPLEMENTARY INFORMATION: The NANC meetings will be held Friday, March 1, 2024 at 10:00 a.m. ET and Tuesday, June 25 at 2:00 p.m. ET in person in the Commission Meeting Room of the Federal Communications Commission, 45 L Street NE, Washington, DC and via the internet at http://www.fcc.gov/live. While the meetings are open to the public, the FCC headquarters building is not open access, and all guests must check in with and be screened by FCC security at the main entrance on L Street. Attendees will not be required to have an appointment but must otherwise comply with protocols outlined at: https://www.fcc.gov/visit. Additionally, the meetings will be available to the public via live feed from the FCC's web page at http://www.fcc.gov/live. Open captioning will be provided online for these events. Other reasonable accommodations for people with disabilities are available upon request. Requests for such accommodations should be submitted via email to fcc504@fcc.gov or by calling the Consumer & Governmental Affairs Bureau at (202) 418-0530. Such requests should include a detailed description of the accommodation needed. In addition, please include a way for the FCC to contact the requester if more information is needed to fill the request. Please allow at least five days' advance notice for accommodation requests; last minute requests will be accepted but may not be possible to accommodate. Members of the public may submit comments to the NANC in the FCC's Electronic Comment Filing System, ECFS, at www.fcc.gov/ecfs. Comments to the NANC should be filed in WC Docket No. 23-1.

This is a summary of the Commission's document in WC Docket No. 23-1, DA 24-50, released January 17, 2024.

Proposed Agenda: At the March 1, 2024 meeting, the NANC will consider and vote on recommendations from the Toll Free: Future Utilization of Numbers (T-FUN) Working Group regarding 833 toll free numbers. The NANC will also hear routine status reports from the Numbering Administration Oversight Working Group (NAOWG), the North American Portability Management, LLC, and the Secure Telephone Identity Governance Authority.

At the June 25, 2024 meeting, the NANC will consider and vote on recommendations from the following Working Groups:

• The T-FUN Working Group regarding 800 toll free numbers;

• The Call Authentication Trust Anchor Working Group regarding the regulatory treatment of international cellular roaming traffic;

• The Internet of Things Numbering Usage Working Group regarding the use of North American Numbering Plan numbers for the routing and addressing of Internet of Things communications; and

• The NAOWG regarding (1) the Numbering Administration Performance Review; and (2) the North American Numbering Plan Fund Size Projections and Contribution Factor.

The NANC will also hear a report from the Billing & Collection Agent, Welch LLP. Either of these agendas may be modified at the discretion of the NANC Chairwoman and the Designated Federal Officer.

(5 U.S.C. ch. 10)

Federal Communications Commission.
Jodie May,
Division Chief, Competition Policy Division, Wireline Competition Bureau.

[FR Doc. 2024-01479 Filed 1-24-24; 8:45 am]

BILLING CODE 6712-01-P